DEPARTMENT OF AGRICULTURE

Forest Service

Proposed Fee

Authority: Federal Lands Recreation Enhancement Act, (Title VIII, Pub. L. 108-447)

AGENCY: Okanogan-Wenatchee National Forest, USDA Forest Service.

ACTION: Notice.

SUMMARY: The Okanogan-Wenatchee National Forest, Naches Ranger District, proposes to charge new fees at four recreation sites. A $5.00 per vehicle per night charge at Ponderosa Camp, Lost Meadow, Longmire Meadow and Long Meadow camp areas in the Little Naches drainage is under consideration. The fee would not apply to any towed vehicle(s). Fees are assessed based on the level of amenities and services provided, cost of operation and maintenance, market assessment, and public comment. Revenue generated would be used for operation and maintenance of existing facilities at the sites, increased services, and potential future improvements. The fees listed are only proposed and will be determined upon further analysis and public comment.

DATES: Submit comments on or before January 31, 2010. The proposed fee could be implemented as soon as May 2010.

ADDRESSES: Address all comments to Randall Shepard, Naches District Ranger, 10237 US Highway 12, Naches, Washington 98937, (509) 653-1401. Submit electronic comments and other data to jbeidl@fs.fed.us.

FOR FURTHER INFORMATION CONTACT: Jacqueline Beidl (509) 653-1432.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: July 6, 2009.
Randall Shepard,
District Ranger.

[FR Doc. E9-16330 Filed 7-9-09; 8:45 am]

BILLING CODE 3410-11-P